DEPARTMENT OF COMMERCE

Foreign-Trade Zones Board

[B-102-2013]

Foreign-Trade Zone 20—Suffolk, Virginia, Authorization of Production Activity, Canon Virginia, Inc. (Toner Cartridges, Toner Bottles and Cartridge Parts), Newport News, Virginia

On November 27, 2013, Canon Virginia, Inc. submitted a notification of proposed production activity to the Foreign-Trade Zones (FTZ) Board for its facility within Subzone 20D, in Newport News, Virginia.

The notification was processed in accordance with the regulations of the FTZ Board (15 CFR part 400), including notice in the Federal Register inviting public comment (78 FR 73824-73825, 12-09-2013). The FTZ Board has determined that no further review of the activity is warranted at this time. The production activity described in the notification is authorized, subject to the FTZ Act and the Board's regulations, including Section 400.14.

Dated: March 27, 2014.
Andrew McGilvray,
Executive Secretary.

[FR Doc. 2014-07406 Filed 4-1-14; 8:45 am]

BILLING CODE 3510-DS-P